DEPARTMENT OF COMMERCE

Patent and Trademark Office

[Docket No. PTO-C-2020-0017]

National Medal of Technology and Innovation Nomination Evaluation Committee Charter Renewal

AGENCY: United States Patent and Trademark Office, Commerce.

ACTION: Notice.

SUMMARY: The Chief Financial Officer/Assistant Secretary of Commerce for Administration, with the concurrence of the General Services Administration, renewed the Charter for the National Medal of Technology and Innovation Nomination Evaluation Committee on February 12, 2020.

DATES: The Charter for the National Medal of Technology and Innovation Nomination Evaluation Committee was renewed on February 12, 2020.

FOR FURTHER INFORMATION CONTACT: John Palafoutas, Program Manager, National Medal of Technology and Innovation Program, United States Patent and Trademark Office, 600 Dulany Street, Alexandria, VA 22314; telephone (571) 272-9821 or by electronic mail at nmti@uspto.gov. Information is also available at http://www.uspto.gov/about/nmti/index.jsp.

SUPPLEMENTARY INFORMATION: The Chief Financial Officer/Assistant Secretary of Commerce for Administration, with the concurrence of the General Services Administration, renewed the Charter for the National Medal of Technology and Innovation Nomination Evaluation Committee (NMTI Committee) on February 12, 2020. The NMTI Committee was established in accordance with the Federal Advisory Committee Act and provides advice to the Secretary of Commerce regarding recommendations of nominees for the National Medal of Technology and Innovation (Medal). The duties of the NMTI Committee are solely advisory in nature. Nominations for this Medal are solicited through an open, competitive, and nationwide call for nominations, and the NMTI Committee members are responsible for reviewing the nominations received. The NMTI Committee members are distinguished experts from the private and public sectors with experience in and an understanding of technology and technological innovation, and/or the development of technological manpower. The NMTI Committee evaluates the nominees and forwards its recommendations through the Under Secretary of Commerce for Intellectual Property and Director of the United States Patent and Trademark Office to the Secretary of Commerce who, in turn, forwards his recommendations for the Medal to the President.

Dated: April 22, 2020.
Andrei Iancu,
Under Secretary of Commerce for Intellectual Property and Director of the United States Patent and Trademark Office.

[FR Doc. 2020-08896 Filed 4-24-20; 8:45 am]

BILLING CODE 3510-16-P